DEPARTMENT OF AGRICULTURE

Forest Service

Exodus Timber Sale Project, Umpqua National Forest, Douglas County, OR

AGENCY: Forest Service, USDA.

ACTION: Notice of intent to prepare an environmental impact statement.

SUMMARY: The USDA Forest Service, will prepare an Environmental Impact Statement (EIS) for a timber sale and connected actions within the Black Creek watershed planning area of the North Umpqua Ranger District. These actions include timber sales, the construction of temporary roads, site preparation, tree planting, fuels hazard reductions, road decommissioning, road repair, precommercial thinning, instream wood placement, and soil restoration. The planning area is located approximately 38 miles east of Roseburg, Oregon. The project is expected to be implemented 2003 through 2005. The agency gives notice of the full environmental analysis and decision-making process that will occur on the proposal so that interested and affected people may become aware of how they can participate in the process and contribute to the final decision.

DATES: Comments concerning the scope of the analysis should be received in writing, by November 16, 2001.

ADDRESSES: Send written comments and suggestions concerning this proposal to Carol Cushing, District Ranger, North Umpqua Ranger District, 18782 North Umpqua Highway, Glide, Oregon 97443

FOR FURTHER INFORMATION CONTACT: Direct questions about the proposed action or EIS to Debbie Anderson, ID Team Leader, North Umpqua Ranger District, 18782 North Umpqua Highway, Glide, Oregon 97443 or (541) 496-3532.

SUPPLEMENTARY INFORMATION: The area being analyzed in the Exodus Timber Sale Project EIS encompasses approximately 6,750 acres of National Forest System land on the North Umpqua Ranger District. The planning area is bounded to the North by the Dutch Creek Ridge, to the South by the Little River/South Umpqua Divide, to the East by Black Butte and Clover Ridge, and to the West by Red Butte and Peter Paul Prairie. The planning area includes all or portions of sections 20, 21, 28, 29, 32 through 34, T26S, R3E; sections 1 through 5, 8 through 17, 20 through 29, and 32 through 36, T27S, R3E; section 7, 17 through 23 and 25 through 36, T27S, R4E; sections 30 and 31, T27S, R5E; sections 1 through 4, 10 through 15, 23 through 26, 35 and 36, T28S, R3E; sections 1 through 24 and 26 through 30, T28S, R4E; sections 18 and 19, T28S, R5E, Willamette Meridian, Douglas County, Oregon.

The Exodus Timber Sale Project proposed action is based on the need to achieve the desired conditions for the planning area recommended in the 1995 Little River Watershed Analysis. Timber harvest proposals are based on the need to maintain a high level of vegetative diversity in both structure and pattern within the watershed over time, by approximating large and small scale natural disturbance processes and patterns through even and uneven aged silvicultural treatments. Proposed natural fuels prescriptions are based on the need to move the planning area from a high severity fire regime towards a moderate severity fire regime. Rehabilitation of soils through subsoiling is based on the need to improve the long term site productivity and water infiltration within managed stands that have been adversely affected by past management practices. Instream wood placement is based on the need to improve aquatic habitat where large woody debris has been removed or is otherwise absent or deficient. Pre-commercial thinning is based the need to increase stand growth and vigor of overstocked managed stands. Road repair/maintenance and decommissioning is based on the need to reduce the risk to the aquatic resources from road related erosional processes.

Timber sale related activities include: uneven-aged harvest on approximately 1,019 acres of late-seral forest in 16 units, using proportional thinning, thinning from below, and small group openings, and prescribing leave trees in the largest diameter classes; regeneration harvest in one unit on approximately 42 acres of late-seral forest, with 15% green-tree retention in the form of leave groups and dispersed mature trees; an intermediate harvest in the form of commercial thinning in 11 units on 354 acres; reforestation and seedling protection in one unit on 42 acres; site preparation/fuels reduction on 882 acres in 28 units; repair/maintenance of approximately 25 miles of existing roads; construction of 0.4 miles of temporary roads with subsequent obliteration; and use of existing rock pits. The acreage proposed for harvest is estimated to yield about 19 million board feet of timber. This volume estimate is likely to decrease as a result of implementing protection buffers where required for Survey and Manage species. The areas prescribed for harvest will require a combination of helicopter, skyline and ground-based harvesting equipment.

Alternatives to be considered include the No Action Alternative, the Proposed Action, an alternative that responds to concerns over economic efficiency, an alternative that maintains high canopy closures in order to maintain wildlife habitat components and hydrologic recovery percentages, and an alternative that focuses on commercial thinning and does not harvest in late successional forests.

Restoration related activities include approximately: 12 miles of road decommissioning and 4 miles of road closure; recruitment of large woody material within eleven second growth timber sale harvest units; 8 acres of site productivity restoration; 7 miles of instream log placement in Upper Black and Dutch Creeks; 480 acres of precommercial thinning in 23 units; and fuels hazard reduction on 135 acres in one stand.

Preliminary issues, as identified by the Umpqua National Forest and by scoping that has been conducted to date, include the following:

• Will the timber sale activity in the proposed action be economically efficient and viable?

• How will the proposed action affect the late successional habitat and species within the Black Creek Watershed?

• How will the proposed action affect water quality and aquatic conditions for aquatic and riparian dependant species?

• How will the public respond to reduced vehicular access within the watershed?

The scoping effort is intended to identify issues, which may lead to the development of alternatives to the proposed action. Scoping will also contribute to an important aspect of Roads Analysis, which is incorporated into this EIS. One of the purposes of this notice of intent is to solicit input from the public as part of the overall scoping effort. In addition to this notice, the public has been notified of the EIS through the Umpqua National Forest's April 2001 Schedule of Proposed Actions. Scoping for this project will also include an open house in Roseburg, Oregon, on October 24, 2001.

Comments received in response to this notice and through scoping, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the requests for confidentiality, and where the request is denied, the agency will return the submission and notify the requester that the comments may be resubmitted with or without name and address within a specified number of days.

Public comments are appreciated throughout the analysis process. The draft EIS is expected to be filed with the Environmental Protection Agency (EPA) and be available for public review by June 2002. The comment period on the draft EIS will be 45 days from the date the EPA publishes the notice of availability in the Federal Register. The final EIS is scheduled to be available in September of 2002.

The Forest Serviced believes it is important to give reviewers notice of this early stage of public participation and of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could have been raised at the draft stage may be waived or dismissed by the court if not raised until after completion of the final EIS. City of Angoon v. Hodel, 803 f.2d 1016, 1022 (9th Cir, 1986) and Wisconsin Heritages, Inc. v. Harris, 490 F. Supp. 1334, 1338 (E.D. Wis. 1980). Because of these court rulings, it is very important that those interested in this proposed action participate by the close of the 45-day comment period so substantive comments and objections are made available to the Forest Service at a time when it can meaningfully consider and respond to them in the final EIS.

To assist the Forest Service in identifying and considering issues and concerns on the proposed action, comments on the draft EIS should be as specific as possible. It is also helpful if comments refer to specific pages or chapters of the draft statement. Comments may also address the adequacy of the draft EIS or th merits of the alternatives formulated and discussed in the statement. (Reviewers may wish to refer to the Council on Environmental Quality Regulations for implementing the procedural provisions of the National Environmental Policy Act of 40 CFR 1503.3 in addressing these points.)

In the final EIS, the Forest Service is required to respond to substantive comments and responses received during the comment period that pertain to the environmental consequences discussed in the draft EIS and applicable laws, regulations, and policies considering in making a decision regarding the proposal. The Responsible Official is Carol Cushing, District Ranger for the North Umpqua Ranger District, Umpqua National Forest. The Responsible Official will document the decision and rationale for the decision in a Record of Decision. The decision will be subject to review under Forest Service Appeal Regulations.

Dated: August 10, 2001.
Don Ostby,
Forest Supervisor.

[FR Doc. 01-20872 Filed 8-17-01; 8:45 am]

BILLING CODE 3410-11-M